DEPARTMENT OF THE TREASURY

Fiscal Service

Surety Companies Acceptable on Federal Bonds: Amendment Insurance Company of the State of Pennsylvania (The) New Hampshire Insurance Company

AGENCY: Bureau of the Fiscal Service, Fiscal Service, Department of the Treasury.

ACTION: Notice.

SUMMARY: This is Supplement No. 3 to the Treasury Department Circular 570, 2015 Revision, published July 1, 2015, at 80 FR 37735.

FOR FURTHER INFORMATION CONTACT: Surety Bond Branch at (202) 874-6850.

SUPPLEMENTARY INFORMATION: The underwriting limitations for Insurance Company of State of Pennsylvania (The) and New Hampshire Insurance Company, which were listed in the Treasury Department Circular 570, published on July 1, 2015, are hereby amended. The underwriting limitation for Insurance Company of the State of Pennsylvania (The) is amended to read $4,277,000. The underwriting limitation for New Hampshire Insurance Company is amended to read $5,206,000. Federal bond-approving officers should annotate their reference copies of the Treasury Department Circular 570 (“Circular”), 2015 Revision, to reflect this change.

The Circular may be viewed and downloaded through the Internet at http://www.fiscal.treasury.gov/fsreports/ref/suretyBnd/surety_home.htm.

Questions concerning this notice may be directed to the U.S. Department of the Treasury, Bureau of the Fiscal Service, Financial Accounting and Services Branch, Surety Bond Section, 3700 East-West Highway, Room 6D22, Hyattsville, MD 20782.

Dated: October 27, 2015.
Kevin McIntyre,
Manager, Financial Accounting Services Branch, Bureau of the Fiscal Service.

[FR Doc. 2015-28073 Filed 11-3-15; 8:45 am]

BILLING CODE 4810-AS-P